ENVIRONMENTAL PROTECTION AGENCY

40 CFR Part 799

[EPA-HQ-OPPT-2002-0073; FRL-8109-2]

RIN 2070-AB79

Proposed Test Rule for Certain Chemicals on the ATSDR/EPA CERCLA Priority List of Hazardous Substances; Extension of Comment Period

AGENCY: Environmental Protection Agency (EPA).

ACTION: Proposed rule; extension of comment period.

SUMMARY: EPA is hereby extending the comment period for a proposed rule issued on October 20, 2006 (71 FR 61926) (FRL-8081-3), to require testing for certain chemicals on the Agency for Toxic Substances and Disease Registry (ATSDR)/EPA Priority List of Hazardous Substances to March 19, 2007. This extension is being made as a result of a request by a member of the public for additional time to submit comments.

DATES: Comments must be received on or before March 19, 2007. Your request to present oral comments must be in writing and must be received by EPA on or before March 19, 2007.

ADDRESSES: Follow the detailed instructions as provided under ADDRESSES in the Federal Register document of October 20, 2006.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Robert W. Jones, Chemical Control Division, Office of Pollution Prevention and Toxics (7405M), Environmental Protection Agency, 1200 Pennsylvania Ave., NW., Washington, DC 20460-0001; telephone number: (202) 564-8161; e-mail address: jones.robert@epa.gov.

SUPPLEMENTARY INFORMATION: This document extends the public comment period established in the Federal Register issued on October 20, 2006 (71 FR 61926) (FRL-8081-3). In that document, EPA proposed to require testing for certain chemicals on the ATSDR/EPA Priority List of Hazardous Substances which is compiled under the Comprehensive Environmental Response Compensation and Liability Act (CERCLA), and solicited proposals for enforceable consent agreements (ECAs). EPA proposed the test rule under section 4(a) of the Toxic Substances Control Act (TSCA) that would require manufacturers (including importers) and processors of four chemical substances (chloroethane, hydrogen cyanide, methylene chloride, and sodium cyanide) to conduct testing for certain health effects relating to the manufacture, distribution in commerce, processing, use, or disposal of these substances. The data that would be obtained under the testing program are intended to be used to address health effects data needs identified by ATSDR and EPA for these substances, which are among the hazardous substances most frequently found at sites listed on the CERCLA National Priorities List (NPL) and which are also hazardous air pollutants (HAPs) under section 112 of the Clean Air Act (CAA). EPA solicited proposals for ECAs involving the conduct of physiologically based pharmacokinetics (PBPK) studies as an alternative to the testing proposed in the rule, as appropriate. Alternatively, if ECA proposals involving the conduct of PBPK studies are not received, or if received, are not considered by the Agency to be adequate, EPA may consider ECA proposals which cover some or all of the testing identified for a given chemical in this proposed rule.

EPA is hereby extending the comment period on the proposed rule, which was set to end on December 19, 2006, to March 19, 2007. This extension is being made as a result of a request by a member of the public for additional time to submit comments.

Please go to the proposed rule to review the details of the Agency's proposed action and follow the instructions provided in the proposed rule for how to comment. To view the electronic docket for this proposed rule and submit comments on-line, please go to http://www.regulations.gov. The docket identification number of this action is EPA-HQ-OPPT-2002-0073.

List of Subjects in 40 CFR Part 799

Environmental protection, Chemicals, Hazardous substances, Laboratories, Reporting and recordkeeping requirements.

Dated: December 12, 2006.
Susan B. Hazen,
Acting Assistant Administrator, Office of Prevention, Pesticides and Toxics Substances.

[FR Doc. E6-21494 Filed 12-15-06; 8:45 am]

BILLING CODE 6560-50-S